DEPARTMENT OF ENERGY

Federal Energy Regulatory Commission

[Project No. 14505-000]

JAL Hydro, LLC; Notice of Preliminary Permit Application Accepted for Filing and Soliciting Comments, Motions To Intervene, and Competing Applications

On March 12, 2013, JAL Hydro, LLC, filed an application for a preliminary permit, pursuant to section 4(f) of the Federal Power Act (FPA), proposing to study the feasibility of the Natick Pond Dam Hydroelectric Project (Natick Pond Dam Project or project) to be located on the Pawtuxet River, in the towns of Warwick and West Warwick, Kent County, Rhode Island. The sole purpose of a preliminary permit, if issued, is to grant the permit holder priority to file a license application during the permit term. A preliminary permit does not authorize the permit holder to perform any land-disturbing activities or otherwise enter upon lands or waters owned by others without the owners' express permission.

The proposed project would consist of the following: (1) An existing 22.5-foot-high, 265-foot-long earth embankment dam with a 166-foot-long granite masonry block spillway; (2) the existing 26.9-acre Natick Pond with operating elevation of about 48.5 feet above mean sea level (msl); (3) a new 130-foot-long, 20-foot-wide, 6-foot-deep concrete intake channel; (4) a new 10-foot-high, 20-foot-wide sluice gate equipped with a new 10-foot-high, 20-foot-wide trashrack with 6-inch bar spacing; (5) two new 52-foot-long, 9.75-foot-diameter Archimedes screw generator units each rated at 148 kilowatts (kW) for a total installed capacity of 296 kW; (6) a new 10-foot-high, 27-foot-long, 42-foot-wide concrete powerhouse containing a new gearbox and electrical controls; (7) a new above ground 145-foot-long, 35.0-kilovolt transmission line connecting the powerhouse to National Grid's distribution system; and (8) appurtenant facilities. The estimated annual generation of the proposed Natick Pond Dam Project would be about 1500 megawatt-hours. The existing Natick Pond Dam and appurtenant works are owned by the City of Warwick, Rhode Island.

Applicant Contact: Mr. Michael C. Kerr, New England Hydropower Company, LLC, P.O. Box 5524, Beverly Farms, Massachusetts 01915; phone: (978) 360-2547.

FERC Contact: John Ramer; phone: (202) 502-8969 or email: john.ramer@ferc.gov.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and five copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14505) in the docket number field to access the document. For assistance, contact FERC Online Support.

Dated: March 19, 2013.
Kimberly D. Bose,
Secretary.

[FR Doc. 2013-06818 Filed 3-25-13; 8:45 am]

BILLING CODE 6717-01-P